NATIONAL SCIENCE FOUNDATION

Committee Management; Renewal

The NSF management officials having responsibility for the advisory committee listed below have determined that renewing this committee for another two years is necessary and in the public interest in connection with the performance of duties imposed upon the Director, National Science Foundation (NSF), by 42 U.S.C. 1861 et seq. This determination follows consultation with the Committee Management Secretariat, General Services Administration.

Committee: President's Committee on the National Medal of Science, #1182.

Effective date for renewal is November 22, 2021. For more information, please contact Crystal Robinson, NSF, at (703) 292-8687.

Dated: November 22, 2021.
Crystal Robinson,
Committee Management Officer.

[FR Doc. 2021-25828 Filed 11-24-21; 8:45 am]

BILLING CODE 7555-01-P